NUCLEAR REGULATORY COMMISSION

10 CFR Parts 19, 20, and 50

RIN 3150-AH40

Occupational Dose Records, Labeling Containers, and the Total Effective Dose Equivalent; Confirmation of Effective Date

AGENCY: Nuclear Regulatory Commission.

ACTION: Final rule: Confirmation of effective date.

SUMMARY: The Nuclear Regulatory Commission (NRC) is confirming the effective date of February 15, 2008, for the final rule that was published in the Federal Register on December 4, 2007 (72 FR 68043). The final rule amended the NRC's regulations on the reporting of annual dose to workers, the definition of Total Effective Dose Equivalent (TEDE), the labeling of certain containers holding licensed material, and the determination of cumulative occupational radiation dose. On December 20, 2007 (72 FR 72233), the NRC published a document that deferred the effective date of this final rule until February 15, 2008.

EFFECTIVE DATE: The effective date of February 15, 2008, is confirmed for this final rule.

ADDRESSES: Publicly available documents related to this rulemaking may be viewed electronically on the public computers located at the NRC's Public Document Room (PDR), Room O1F21, One White Flint North, 11555 Rockville Pike, Rockville, Maryland. The PDR reproduction contractor will copy documents for a fee. Publicly available documents created or received at the NRC are available electronically at the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS, contact the NRC's PDR Reference staff at (800) 397-4209, (301) 415-4737, or by e-mail to pdr@nrc.gov.

FOR FURTHER INFORMATION CONTACT: Stewart Schneider, Office of Nuclear Reactor Regulation, U.S. Nuclear Regulatory Commission, Washington, DC 20555-0001; telephone (301) 415-4123; e-mail sxs4@nrc.gov.

SUPPLEMENTARY INFORMATION: The Nuclear Regulatory Commission published a final rule amending regulations that would become effective January 3, 2008. The final rule, published December 4, 2007 (72 FR 68043) related to the reporting of annual dose to workers, the definition of Total Effective Dose Equivalent (TEDE), the labeling of certain containers holding licensed material, and the determination of cumulative occupational radiation dose. This final rule limits the routine reporting of annual doses to those workers whose annual dose exceeds a specific dose threshold or who request a report. The rule also modifies the labeling requirements for certain containers holding licensed material within posted areas in nuclear power facilities, and will amend the definition of TEDE to be consistent with current Commission policy. Finally, this rule removes the requirement that licensees attempt to obtain cumulative exposure records for workers unless these individuals are being authorized to receive a planned special exposure. These revisions reduce the administrative and information collection burdens on NRC and Agreement State licensees without affecting the level of protection for either the health and safety of workers and the public, or for the environment.

This final rule amends information collection requirements contained in 10 CFR parts 19, 20, and 50, and NRC Form 4 that are subject to the Paperwork Reduction Act of 1995 (44 U.S.C. 3501 et seq.). These information collection requirements were sent for approval to the Office of Management and Budget on November 28, 2007. The effective date of this final rule was deferred to allow sufficient time for OMB to complete its review of the information collections requirements imposed in this rule. Because the rule will reduce the burden for existing information collection requirements, the public burden for the information collections in 10 CFR parts 19 and NRC Form 4 is expected to be decreased by 235 and 44 hours per licensee, respectively. This reduction includes the time required for reviewing instructions, searching existing data sources, gathering and maintaining the data needed and completing and reviewing the information collection. The NRC has received final approval for these amended requirements by the Office of Management and Budget, approval number(s) 3150-0044, 3150-0014, 3150-0011, and 3150-0005.

Dated at Rockville, Maryland, this 8th day of February, 2008.
For the Nuclear Regulatory Commission.
Michael T. Lesar,
Chief, Rulemaking, Directives and Editing Branch, Division of Administrative Services, Office of Administration.

[FR Doc. E8-2801 Filed 2-13-08; 8:45 am]

BILLING CODE 7590-01-P